DEPARTMENT OF COMMERCE

International Trade Administration

[A-570-952]

Narrow Woven Ribbon With Woven Selvedge From the People's Republic of China: Rescission of Antidumping Duty Administrative Review; 2011-2012

AGENCY: Import Administration, International Trade Administration, Department of Commerce.

SUMMARY: The Department of Commerce (“the Department”) is rescinding the administrative review of the antidumping duty order on narrow woven ribbon with woven selvedge from the People's Republic of China (“PRC”) for the period September 1, 2011, through August 31, 2012.

DATES: Effective Date: May 7, 2013.

FOR FURTHER INFORMATION CONTACT: Karine Gziryan or Robert Bolling, AD/CVD Operations, Office 4, Import Administration, International Trade Administration, U.S. Department of Commerce, 14th Street and Constitution Avenue NW., Washington DC 20230; telephone: (202) 482-4081 or (202) 482-3434, respectively.

SUPPLEMENTARY INFORMATION:

Background

On October 31, 2012, based on timely requests for review by Berwick Offray LLC and its wholly-owned subsidiary Lion Ribbon Company, Inc. (“Petitioner”), Weifang Dongfang Ribbon Weaving Co., Ltd. (“Weifang Dongfang”) and Yangzhou Bestpak Gifts & Crafts Co., Ltd. (“Yangzhou Bestpak”), the Department published in the Federal Register a notice of initiation of an administrative review of the antidumping duty order on narrow woven ribbon with woven selvedge from the PRC covering the period September 1, 2011, through August 31, 2012.¹ The review covers 10 companies: Weifang Dongfang, Yangzhou Bestpak, Hubscher Ribbon Corp., Ltd. d/b/a Hubschercorp, Pacific Imports, Apex Ribbon, Apex Trimmings Inc. d/b/a Papillon Ribbon & Bow (Canada), Intercontinental Skyline, Multicolor, Supreme Laces Inc., Yama Ribbons, and Bows Co., Ltd.

¹ See Initiation of Antidumping and Countervailing Duty Administrative Reviews and Request for Revocation in Part, 77 FR 65858 (October 31, 2012) (“Initiation Notice”).

On December 28, 2012, Yangzhou Bestpak and on January 26, 2013, Weifang respectively withdrew their own requests for an administrative review. On January 29, 2013, Petitioner withdrew its request for an administrative review of the remaining eight companies.

Rescission of Review

Pursuant to 19 CFR 351.213(d)(1), the Department will rescind an administrative review if the party that requested the review withdraws its request within 90 days of the publication of the notice of initiation of the requested review. In this case, Yangzhou Bestpak, Weifang Dongfang, and Petitioner withdrew their requests within the 90-day deadline and no other parties requested an administrative review of the antidumping duty order. Therefore, we are rescinding the administrative review of narrow woven ribbon with woven selvedge from the PRC for the period September 1, 2011, through August 31, 2012.

Assessment

The Department will instruct U.S. Customs and Border Protection (“CBP”) to assess antidumping duties on all appropriate entries. Because the Department is rescinding this administrative review in its entirety, the entries to which this administrative review pertained shall be assessed antidumping duties at rates equal to the cash deposit of estimated antidumping duties required at the time of entry, or withdrawal from warehouse, for consumption, in accordance with 19 CFR 351.212(c). The Department intends to issue appropriate assessment instructions to CBP 15 days after publication of this notice.

Notifications

This notice serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

This notice also serves as a final reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: April 29, 2013.
Christian Marsh,
Deputy Assistant Secretary for Antidumping and Countervailing Duty Operations.

[FR Doc. 2013-10809 Filed 5-6-13; 8:45 am]

BILLING CODE 3510-DS-P